DEPARTMENT OF LABOR

Occupational Safety and Health Administration

29 CFR Part 1926

[Docket No. S-030]

RIN 1218-AC01

Safety Standards for Cranes and Derricks

AGENCY: Occupational Safety and Health Administration (OSHA), Department of Labor.

ACTION: Notice of Establishment of Negotiated Rulemaking Advisory Committee.

SUMMARY: The Occupational Safety and Health Administration (OSHA) is announcing its decision to establish a Crane and Derrick Negotiated Rulemaking Advisory Committee under the Negotiated Rulemaking Act (NRA), the Occupational Safety and Health Act (OSH Act) and the Federal Advisory Committee Act (FACA).

DATES: The Charter will be filed on June 27, 2003.

FOR FURTHER INFORMATION CONTACT: Michael Buchet, Office of Construction Standards and Guidance, Occupational Safety and Health Administration, U.S. Department of Labor, Room N-3468, 200 Constitution Avenue, NW., Washington, DC 20210; Telephone: (202) 693-2345.

SUPPLEMENTARY INFORMATION: In accordance with the Federal Advisory Committee Act (5 U.S.C. App. I), the Occupational Safety and Health Act (29 U.S.C. 651 et seq.) and the Negotiated Rulemaking Act of 1990, (5 U.S.C. 561 et seq.) and after consultation with the General Services Administration (GSA), the Secretary of Labor has determined that the establishment of the Crane and Derrick Negotiated Rulemaking Advisory Committee is in the public interest in connection with the performance of duties imposed on the Department by the Occupational Safety and Health Act.

The Committee will function as a part of the Department's rulemaking on revising safety standards for cranes and derricks in construction. It will attempt, using face-to-face negotiations, to reach consensus on the coverage and the substance of these rules, which can be used as the basis of a Notice of Proposed Rulemaking. The Committee is responsible for identifying the key issues, gauging their importance, analyzing the information necessary to resolve the issues, attempting to arrive at a consensus, and submitting to the Secretary of Labor proposed regulatory text for an occupational safety standard governing worker safety for crane and derrick work in construction.

Meetings shall be held as necessary, however, no fewer than eight meetings shall be held over a two-year period. The Committee will terminate two years from the date of this charter or upon the publication of a proposed crane and derricks in construction rule, whichever is earlier.

The committee will be composed of no more than 25 members and a facilitator, appointed by the Secretary of Labor. Members may represent the following interests in appropriate balance: Crane and derrick manufacturers, suppliers, and distributors; companies that repair and maintain cranes and derricks; crane and derrick leasing companies; owners of cranes and derricks; construction companies that use leased cranes and derricks; general contractors; labor organizations representing construction employees who operate cranes and derricks and who work in conjunction with cranes and derricks; owners of electric power distribution lines; civil, structural and architectural engineering firms and engineering consultants involved with the use of cranes and derricks in construction; training organizations; crane and derrick operator testing organizations; insurance and safety organizations, and public interest groups; trade associations; government entities involved with construction safety and with construction operations involving cranes and derricks, and other companies, organizations, and trade associations whose interests are affected by an occupational safety standard governing worker safety for crane and derrick work in construction. Also, the Agency is a member of this committee.

The Committee will report to the Assistant Secretary for Occupational Safety and Health in compliance with the applicable provisions of the FACA and the NRA. Its Charter will be filed under the FACA fifteen (15) days from the date of this publication.

OSHA published a Federal Register Notice requesting comments on the advisability of establishing this Negotiated Rulemaking Committee (67 FR 46612, July 16, 2002). Virtually all commenters agreed with the need to establish this committee.

Authority: This document was prepared under the direction of Elaine L. Chao, Secretary of Labor, U.S. Department of Labor, 200 Constitution Avenue, NW., Washington, DC 20210, pursuant to section 6 and 7 of the Occupational Safety and Health Act (29 U.S.C. 655 and 656); the Negotiated Rulemaking Act of 1990 (5 U.S.C. 561 et seq.); the Federal Advisory Committee Act (5 U.S.C. Appendix 1); 41 FR parts 101-6 and 102-3 and 29 CFR part 1911.

Signed at Washington, DC, this 6th day of June 2003.
Elaine L. Chao,
Secretary of Labor.

[FR Doc. 03-14856 Filed 6-11-03; 8:45 am]

BILLING CODE 4510-26-U